FARM CREDIT ADMINISTRATION

Farm Credit Administration Board; Regular Meeting

AGENCY: Farm Credit Administration.

SUMMARY: Notice is hereby given, pursuant to the Government in the Sunshine Act (5 U.S.C. 552b(e)(3)), that the July 8, 2004, regular meeting of the Farm Credit Administration Board (Board) has been rescheduled. The regular meeting of the Board will be held July 15, 2004, starting at 9 a.m. An agenda for this meeting will be published at a later date.

ADDRESSES: Farm Credit Administration, 1501 Farm Credit Drive, McLean, Virginia 22102-5090.

FOR FURTHER INFORMATION CONTACT: Jeanette C. Brinkley, Secretary to the Farm Credit Administration Board, (703) 883-4009, TTY (703) 883-4056.

Dated: June 22, 2004.
Jeanette C. Brinkley,
Secretary, Farm Credit Administration Board.

[FR Doc. 04-14515 Filed 6-22-04; 3:09 pm]

BILLING CODE 6705-01-P